DEPARTMENT OF TRANSPORTATION

Federal Aviation Administration

14 CFR Part 71

[Docket No. FAA-2006-25186; Airspace Docket No. 06-AAL-18]

RIN 2120-AA66

Re-Designation of VOR Federal Airway V-431; Alaska

AGENCY: Federal Aviation Administration (FAA), DOT.

ACTION: Final rule; technical amendment.

SUMMARY: This technical amendment corrects a final rule published in the Federal Register on July 7, 2006 (71 FR 38516), Docket No. FAA-2005-20551, Airspace Docket No. 06-AAL-18. In that rule, the reference to Docket No. FAA-2005-20551 as published was in error. The correct Docket No. is FAA-2006-25186. Also, the reference to FAA Order 7400.9 was published as FAA Order 7400.9O. The correct reference is FAA Order 7400.9P. Additionally, the corresponding date that refers to the date the Order was effective should state “September 15, 2006” instead of “September 16, 2006”.

DATES: Effective Date: 0901 UTC, December 1, 2006. The Director of the Federal Register approves this incorporation by reference action under 1 CFR part 51, subject to the annual revision of FAA Order 7400.9 and publication of conforming amendments.

FOR FURTHER INFORMATION CONTACT: Tracy Rosgen, Airspace and Rules, Office of System Operations Airspace and AIM, Federal Aviation Administration, 800 Independence Avenue, SW., Washington, DC 20591; telephone: (202) 267-8783.

SUPPLEMENTARY INFORMATION:

History

On July 7, 2006, a final rule was published in the Federal Register, Docket No. FAA-2005-20551, Airspace Docket No. 06-AAL-18, that amended Title 14 Code of Federal Regulations part 71 by re-designating VOR Federal Airway V-431, AK (71 FR 38516). In that rule, the reference to Docket No. FAA-2005-20551 is incorrect. The correct Docket No. is FAA-2006-25186. Also, the reference to FAA Order 7400.9 was published as FAA Order 7400.9O. The correct reference is FAA Order 7400.9P. Additionally, the corresponding date that refers to the date the Order was effective should state “September 15, 2006” instead of “September 16, 2006”.

Amendment to Final Rule

Accordingly, pursuant to the authority delegated to me, the reference to FAA Order 7400.9 for Airspace Docket No. FAA-2005-20551, Airspace Docket No. 06-AAL-18, as published in the Federal Register on July 7, 2006 (71 FR 38516), is corrected as follows:

1. On page 38516, in column 3, in the heading of the document, following 14 CFR Part 71, “Docket No. FAA-2005-20551” is corrected to read “Docket No. FAA-2006-25186”.

2. On page 38517, in column 1, in the second paragraph following the rule section, in line 3, “FAA Order 7400.9O” is corrected to read “FAA Order 7400.9P”, and in line 4, “September 16, 2006” is corrected to read “September 15, 2006”.

§ 71.1 [Corrected]

3. On page 38517, in column 2, in amendatory instruction 2, in line 2, “FAA Order 7400.9O” is corrected to read “FAA Order 7400.9P”, and in line 5, “September 16, 2006” is corrected to read “September 15, 2006”.

Issued in Washington, DC, on November 22, 2006.
Edith V. Parish,
Manager, Airspace and Rules.

[FR Doc. E6-20279 Filed 11-30-06; 8:45 am]

BILLING CODE 4910-13-P